DEPARTMENT OF TRANSPORTATION

Office of the Secretary

Privacy Act of 1974: System of Records; Statement of General Routine Uses; Notice of Interim Establishment

AGENCY: Office of the Secretary, Department of Transportation.

ACTION: Establishment of interim Privacy Act routine use.

SUMMARY: The Department of Transportation (DOT) establishes an interim new General Routine Use that allows DOT to continue providing information from DOT systems of records to the Coast Guard and to the Transportation Security Administration, as it now does under 5 U.S.C. 552a(b)(1), when Coast Guard and Transportation Security Administration transfer on March 1 from DOT to the Department of Homeland Security. Public comment is invited.

DATES: Comments are due March 26, 2003. This interim General Routine Use will take effect on March 1, 2003.

ADDRESSES: Comments should be mailed to Stephen A. Metoyer, Office of the General Counsel, C-10, Department of Transportation, Washington, DC 20590.

FOR FURTHER INFORMATION CONTACT: Stephen A. Metoyer, (202) 366-9154.

SUPPLEMENTARY INFORMATION: The Homeland Security Act of 2002 (Pub. L. 107-296) requires that the Coast Guard and the Transportation Security Administration (TSA) transfer from DOT to the newly created Department of Homeland Security (DHS). In performing their statutory duties, Coast Guard and TSA have shared information in Privacy Act systems of records with other components within DOT pursuant to subsection (b)(1) of the Privacy Act (5 U.S.C. 552a(b)(1)). Subsection (b)(1) permits components within DOT to share information, contained in Privacy Act systems of records, with employees who have a need to know in performance of their duties.

However, once Coast Guard and TSA transfer to DHS, information from DOT systems of records cannot be shared with them under subsection (b)(1) because these two components will no longer be part of DOT. Nonetheless, the corresponding needs of Coast Guard, TSA and the remaining DOT components to share information will continue because each agency's statutory requirements continue. Therefore, DOT proposes a new General Routine Use, which will permit DOT to continue providing information from its systems of records to Coast Guard and TSA as it has done prior to the transfer of these DOT components to DHS. DOT proposes to adopt the following language:

“8. Routine Use for Disclosure to Coast Guard and to Transportation Security Administration. A record from this system of records may be disclosed, as a routine use, to the Coast Guard and to the Transportation Security Administration if information from this system was shared with either agency when that agency was a component of the Department of Transportation before its transfer to the Department of Homeland Security and such disclosure is necessary to accomplish a DOT, TSA or Coast Guard function related to this system of records.”

Under the Privacy Act, a routine use is a use to which information subject to the Act is put that is compatible with the original purpose for collecting the information. The continued providing of information to Coast Guard and Transportation Security Administration is compatible with the original purpose for collecting the information.

Because the Coast Guard and TSA are transferring to DHS on March 1, 2003, it is necessary to immediately establish this new general routine use under the Privacy Act. It would be contrary to the public interest to have a gap in the interaction of Coast Guard and TSA with DOT systems of records at a time of heightened security. Accordingly, this routine use will take effect on March 1, 2003, but may be changed thereafter in light of comments received.

Issued in Washington, DC, on February 14, 2003.
Eugene K. Taylor, Jr.,
Acting Chief Information Officer.

[FR Doc. 03-4229 Filed 2-21-03; 8:45 am]

BILLING CODE 4910-62-P